DEPARTMENT OF ENERGY

Federal Energy Regulatory Commission

Combined Notice of Filings #2

Take notice that the Commission received the following electric rate filings:

Docket Numbers: ER10-1484-002.

Applicants: Shell Energy North America (US), L.P.

Description: Supplement to Updated Market Power Analysis for the Southeast Region of Shell Energy North America (US), L.P.

Filed Date: 4/18/12.

Accession Number: 20120418-5269.

Comments Due: 5 p.m. ET 5/9/12.

Docket Numbers: ER10-1484-003.

Applicants: Shell Energy North America (US), L.P.

Description: Supplement to Notice of Change in Status of Shell Energy North America (US), L.P.

Filed Date: 4/18/12.

Accession Number: 20120418-5270.

Comments Due: 5 p.m. ET 5/9/12.

Docket Numbers: ER10-1827-001; ER10-1825-001.

Applicants: Cleco Power LLC, Cleco Evangeline LLC.

Description: Responses to Information Request regarding Notice of Change in Status filed by Cleco Power LLC and Cleco Evangeline LLC.

Filed Date: 4/18/12.

Accession Number: 20120418-5267.

Comments Due: 5 p.m. ET 5/9/12.

Docket Numbers: ER11-3280-001.

Applicants: Midwest Independent Transmission System Operator, Inc.

Description: 4/19/12 NDEX Compliance to be effective 4/30/2012.

Filed Date: 4/19/12.

Accession Number: 20120419-5159.

Comments Due: 5 p.m. ET 5/10/12.

Docket Numbers: ER12-1437-001.

Applicants: Eagle Point Power Generation LLC.

Description: Correction to Reactive Rate Schedule to be effective 4/1/2012.

Filed Date: 4/19/12.

Accession Number: 20120419-5154.

Comments Due: 5 p.m. ET 5/10/12.

Docket Numbers: ER12-1570-000.

Applicants: Verso Androscoggin LLC.

Description: Verso Androscoggin LLC submits Notice of Cancellation of Interconnection Agreement.

Filed Date: 4/19/12.

Accession Number: 20120419-5092.

Comments Due: 5 p.m. ET 5/10/12.

Docket Numbers: ER12-1571-000.

Applicants: Verso Bucksport LLC.

Description: MBR Application and Baseline Tariff to be effective 6/18/2012.

Filed Date: 4/19/12.

Accession Number: 20120419-5127.

Comments Due: 5 p.m. ET 5/10/12.

Docket Numbers: ER12-1572-000.

Applicants: ITC Midwest LLC.

Description: ITC Midwest Amended and Restated O&M Agreement with SMMPA to be effective 4/20/2012.

Filed Date: 4/19/12.

Accession Number: 20120419-5146.

Comments Due: 5 p.m. ET 5/10/12.

Docket Numbers: ER12-1573-000.

Applicants: The Detroit Edison Company.

Description: Thumb Electric WPS-2 Service Agreement to be effective 1/1/2012.

Filed Date: 4/19/12.

Accession Number: 20120419-5156.

Comments Due: 5 p.m. ET 5/10/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 19, 2012.
Nathaniel J. Davis, Sr.,
Deputy Secretary.

[FR Doc. 2012-10183 Filed 4-26-12; 8:45 am]

BILLING CODE 6717-01-P